DEPARTMENT OF COMMERCE

Bureau of Industry and Security

In the Matter of: Naomi Natal Haynes, Inmate Number: 19838-104, FCI Aliceville, P.O. Box 4000, Aliceville, AL 35442; Order Denying Export Privileges

On January 11, 2021, in the U.S. District Court for the Southern District of Florida, Naomi Natal Haynes (“Haynes”) was convicted of violating 18 U.S.C. 371. Specifically, Haynes was convicted of conspiring to fraudulently and knowingly export and send firearms from the United States to Canada without the required license. As a result of her conviction, the Court sentenced her to 84 months in prison, three years of supervised release, a $200 assessment and $18,240.18 Restitution.

Pursuant to Section 1760(e) of the Export Control Reform Act (“ECRA”),¹ the export privileges of any person who has been convicted of certain offenses, including, but not limited to, 18 U.S.C 371, may be denied for a period of up to ten (10) years from the date of his/her conviction. 50 U.S.C. 4819(e). In addition, any Bureau of Industry and Security (“BIS”) licenses or other authorizations issued under ECRA, in which the person had an interest at the time of the conviction, may be revoked. Id.

¹ ECRA was enacted on August 13, 2018, as part of the John S. McCain National Defense Authorization Act for Fiscal Year 2019, and as amended is codified at 50 U.S.C. 4801-4852.

BIS received notice of Haynes conviction for violating 18 U.S.C 371. As provided in Section 766.25 of the Export Administration Regulations (“EAR” or the “Regulations”), BIS provided notice and opportunity for Haynes to make a written submission to BIS. 15 CFR 766.25.² BIS has not received a written submission from Haynes.

² The Regulations are currently codified in the Code of Federal Regulations at 15 CFR parts 730-774 (2022).

Based upon my review of the record and consultations with BIS's Office of Exporter Services, including its Director, and the facts available to BIS, I have decided to deny Haynes's export privileges under the Regulations for a period of 10 years from the date of Haynes's conviction. The Office of Exporter Services has also decided to revoke any BIS-issued licenses in which Haynes had an interest at the time of her conviction.³

³ The Director, Office of Export Enforcement, is the authorizing official for issuance of denial orders pursuant to amendments to the Regulations (85 FR 73411, November 18, 2020).

Accordingly, it is hereby ordered:

First, from the date of this Order until January 11, 2031, Naomi Natal Haynes, with a last known address of Inmate Number: 19838-104, FCI Aliceville, P.O. Box 4000, Aliceville, AL 35442 and when acting for or on her behalf, her successors, assigns, employees, agents or representatives (“the Denied Person”), may not directly or indirectly participate in any way in any transaction involving any commodity, software or technology (hereinafter collectively referred to as “item”) exported or to be exported from the United States that is subject to the Regulations, including, but not limited to:

A. Applying for, obtaining, or using any license, license exception, or export control document;

B. Carrying on negotiations concerning, or ordering, buying, receiving, using, selling, delivering, storing, disposing of, forwarding, transporting, financing, or otherwise servicing in any way, any transaction involving any item exported or to be exported from the United States that is subject to the Regulations, or engaging in any other activity subject to the Regulations; or

C. Benefitting in any way from any transaction involving any item exported or to be exported from the United States that is subject to the Regulations, or from any other activity subject to the Regulations.

Second, no person may, directly or indirectly, do any of the following:

A. Export, reexport, or transfer (in-country) to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Third, pursuant to section 1760(e) of ECRA and sections 766.23 and 766.25 of the Regulations, any other person, firm, corporation, or business organization related to Haynes by ownership, control, position of responsibility, affiliation, or other connection in the conduct of trade or business may also be made subject to the provisions of this Order in order to prevent evasion of this Order.

Fourth, in accordance with part 756 of the Regulations, Haynes may file an appeal of this Order with the Under Secretary of Commerce for Industry and Security. The appeal must be filed within 45 days from the date of this Order and must comply with the provisions of part 756 of the Regulations.

Fifth, a copy of this Order shall be delivered to Haynes and shall be published in the Federal Register.

Sixth, this Order is effective immediately and shall remain in effect until January 11, 2031.

John Sonderman,
Director, Office of Export Enforcement.

[FR Doc. 2023-18437 Filed 8-25-23; 8:45 am]

BILLING CODE 3510-DT-P